ENVIRONMENTAL PROTECTION AGENCY

[FRL-6903-5]

Request for Applications, Ecology and Oceanography of Harmful Algal Blooms Program

AGENCY: Environmental Protection Agency.

ACTION: Notification of financial assistance for project assistance.

SUMMARY: The purpose of this notice is to advise the public that the participating agencies are soliciting research proposals of up to 3 years duration, and depending on appropriations up to 5 years for multidisciplinary regional studies, for the Ecology and Oceanography of Harmful Algal Blooms (ECOHAB) program. This program provides support for research on algal species whose populations may cause or result in deleterious effects on ecosystems and human health. Studies of the causes of such blooms, their detection, effects, mitigation, and control in U.S. coastal waters, are solicited. This document details the requirements for applications for research support that will be considered by the Federal research partnership.

DATES: The deadline for proposals is January 31, 2001, by 3:00 PM, EST.

ADDRESSES: Submit the original and twenty copies of your proposal to Coastal Ocean Program Office, N/SCI2, SSMC#3, 9th Floor, Room 9752, 1315 East-West Highway, Silver Spring, MD 20910. The required forms for applications with instructions are accessible on the Internet at http://es.epa.gov/ncerqa/rfa/forms/downlf.html. Forms may be printed from this site.

The complete announcement program can be accessed on the Internet at http://www.epa.gov/ncerqa, under “announcements.”

AWARDS: Final selection of awardees by the participating agencies will be determined on the basis of peer and panel recommendations, applicability of the proposed effort to the interests and objectives of an agency, and the availability of funds. It is anticipated that each award will be made through and be administered by a single agency; however, several agencies may participate in providing assistance to individual components of multi-institutional projects. Applicants recommended for funding may be requested to resubmit their proposals and modify their budgets and/or work plans to comply with special requirements of the particular agency supporting their awards. Awards will be subject to the terms and conditions of the sponsoring agency.

FOR FURTHER INFORMATION CONTACT: Technical Information: Dr. Kevin Sellner, ECOHAB Coordinator, COP Office, 301-713-3338/ext 127, EMail: ksellner@cop.noaa.gov. Administrative Information: Dr. Robert E. Menzer, EPA/NCER, (202) 564-6849, EMail: menzer.robert@epa.gov.

SUPPLEMENTARY INFORMATION:

Program Goals and Topic Areas

The National Center for Environmental Research/Environmental Protection Agency (EPA); the Coastal Ocean Program, and the Office of Protected Resources, National Oceanic and Atmospheric Administration (NOAA)/Department of Commerce; the Directorate for Geosciences, Division of Ocean Sciences/National Science Foundation (NSF); the Office of Naval Research (ONR)/Department of Defense; and the Office of Earth Science/National Aeronautics and Space Administration (NASA) are cooperating in an opportunity for investigators to propose activities to address three primary areas in the national problem of HABs. For the first area, proposals are sought for individual studies or small interdisciplinary efforts that address gaps in general knowledge related to the nature of HAB phenomena. These studies should address fundamental ecological and oceanographic questions related to HABs. The second area of interest is the prevention, control, and mitigation of HABs and their impacts. The purpose of this area is to encourage research into key questions on the underlying mechanisms involved with HABs and their control and accompanying ecosystem impact, without necessarily being limited to particular study regions. The third research area is to characterize the impact of acute and chronic exposure to HAB species or toxins on marine mammals, birds, and other protected species.

Eligibility

Academic and not-for-profit institutions located in the U.S., and state or local governments, are eligible under all existing authorizations. Some participating agencies are authorized to make awards to profit-making firms and international institutions. NOAA and other permitted Federal partnering agencies may fund investigators from Federal laboratories that successfully compete through the ECOHAB Program announcement, but salaries of full time Federal employees will be in accord with individual agency policies. Federal investigators will be required to submit certifications or documentation which clearly show that they have specific legal authority to receive funds from another Federal agency in excess of their appropriations. Applications from non-Federal and Federal applicants will be competed against each other. Proposals from Federal researchers deemed acceptable and selected for funding will be funded through a medium other than a grant or cooperative agreement, where legal authority exists for such funding. In order for projects to be eligible for support by NOAA Sea Grant, the projects must include non-Federal matching funds equivalent to 50% of the total Federal funds requested.

How To Apply

The original and twenty (20) copies of the fully developed application (21 in all) and one (1) additional copy of the abstract, prepared in accordance with the instructions in the full announcement, must be received by NOAA no later than 3:00 P.M. Eastern Time on the closing date, January 31, 2001.

Program Authorities. For COP: 33 U.S.C. 883d and P.L. 105-383; for the Office of Protected Resources/NOAA: 16 U.S.C. 1382 and 16 U.S.C. 1421a; EPA: 33 U.S.C 1251 et. seq. and 40 CFR parts 30 and 40; for NSF: 42 U.S.C. 1861 et. seq.; for ONR: 10 U.S.C 2358 as amended and 31 U.S.C 6304; and for NASA: 14 CFR part 1260.

Catalog of Federal Domestic Assistance Numbers. 11.478 for the Coastal Ocean Program; 11.472 for NOAA/Office of Protected Resources; 66.500 for the Environmental Protection Agency; 47.050 for the National Science Foundation, and 12.300 for the Office of Naval Research.

Dated: October 31, 2000.
Approved for publication.
Norine E. Noonan,
Assistant Administrator for Research and Development, USEPA.

[FR Doc. 00-29503 Filed 11-16-00; 8:45 am]

BILLING CODE 6560-50-P